DEPARTMENT OF TRANSPORTATION

Federal Highway Administration

Environmental Impact Statement: Constantine, MI

AGENCY: Federal Highway Administration (FHWA), DOT.

ACTION: Notice of intent.

SUMMARY: The FHWA is issuing this notice to advise the public that an Environmental Impact Statement (EIS) will be prepared for proposed improvements to US-131 from the Indiana Toll Road to M-60 including a potential western by-pass of the Village of Constantine in St. Joseph County, Michigan.

FOR FURTHER INFORMATION CONTACT: Mr. James Kirschensteiner, Programs and Environmental Engineer, Federal Highway Administration, 315 W. Allegan Street, Lansing, Michigan 48933, Telephone (517) 377-1880, ext. 41 or Mr. Paul Wisney, Manager, Design Division, Michigan Department of Transportation, P.O. Box 30050, Lansing, Michigan 48909, Telephone (517) 335-1905.

SUPPLEMENTARY INFORMATION: The FHWA in cooperation with the Michigan Department of Transportation (MDOT), the Indiana Toll Authority and the Indiana Department of Transportation is preparing an Environmental Impact Statement (EIS) for proposed Improvements to US-131 from the Indiana Toll Road to M-60.

US-131 is used as a primary route for commercial truck traffic destined for major urban areas in western Michigan and northern Indiana. A high volume of trucks, approximately 14% of the average daily traffic, currently use US-131. Problems associated with this high volume of truck traffic include congestion, pedestrian crossing conflicts, and vibration and noise impacts, particularly within the Village of Constantine's registered historic district.

A one-mile wide planning corridor will serve as the base within which future improvement alternatives will be developed. This one-mile wide planning corridor was identified during a previous public hearing and corridor location study conducted by MDOT. The US-131 Improvement Study area is generally bounded by the Indiana Toll Road (80/90) to the south, M-60 to the north, US-131 to the east and Blue School and Schafeer Roads to the west.

A wide range of transportation improvement alternatives will be analyzed within the recommended study corridor. Alternatives will range from a “no action” alternative up to and including a limited access freeway facility. Proposed transportation improvements will focus on utilizing the existing US-131 right-of-way where possible. The entire process of determining a preferred alternative is expected to take approximately two years.

A scoping document will be prepared describing the proposed action to solicit comments from appropriate federal, state, and local agencies. Citizen involvement is also being solicited throughout this process. A public hearing will be held on the Draft Environmental Impact Statement (DEIS). Public notice will be given of the time and place of the hearing. The DEIS will be available for public and agency review and comment prior to the public hearing.

To ensure that the full range of issues related to this proposed action are addressed and all significant issues identified, comments and suggestions are invited from all interested parties. Comments or questions concerning this proposed action and the EIS should be directed to the FHWA at the address provided above.

Issued on: June 13, 2000.
James J. Steele,
Division Administrator, Lansing, Michigan.

[FR Doc. 00-15804 Filed 6-21-00; 8:45 am]

BILLING CODE 4910-22-M